DEPARTMENT OF LABOR

Employment and Training Administration

[TA-W 54,122]

Magnetika, Inc., Lakewood, NJ; Notice of Termination of Investigation

Pursuant to section 221 of the Trade Act of 1974, as amended, an investigation was initiated on January 30, 2004 in response to a petition filed by a company official on behalf of workers at Magnetika, Inc., Lakewood, New Jersey.

The petitioner has requested that the petition be withdrawn. Consequently, the investigation has been terminated.

Signed at Washington, DC, this 6th day of February, 2004.
Richard Church,
Certifying Officer, Division of Trade Adjustment Assistance.

[FR Doc. 04-3923 Filed 2-23-04; 8:45 am]

BILLING CODE 4510-30-P